DEPARTMENT OF HEALTH AND HUMAN SERVICES

Administration for Community Living

Agency Information Collection Activities; Proposed Collection; Public Comment Request; Extension of a Currently Approved Information Collection (ICR-REV); Centers for Independent Living Annual Performance Report (CILPPR); Correction

AGENCY: Independent Living Administration, Administration for Community Living, HHS.

ACTION: Notice of correction.

SUMMARY: The Administration for Community Living published a proposed collection of information document in the Federal Register on February 23, 2017. (82 FR 11471 and 11472) The document contained an incorrect date and email address. In addition under the heading “New Requirements”, the first paragraph was revised.

FOR FURTHER INFORMATION CONTACT: Corinna Styles, 202-795-7446.

Corrections:

Under the DATES section, page 11471, column two, correct the notice to read: “Submit written or electronic comments on the collection of information by May 5, 2017.”

Under the ADDRESSES section, page 11471, column two, correct the notice to read: “Submit electronic comments on the collection of information to: cilpprcomments@acl.hhs.gov”.

Under the heading “New Requirements”, the first paragraph, page 11472, column one, replace the first paragraph with the following paragraph below:

“The Workforce Innovation and Opportunity Act (WIOA), enacted on July 22, 2014, added a new core service to the list of “independent living core services” that ACL funded Centers for Independent Living (CILs) are required to provide. Prior to WIOA, CILs were required to provide the following core services: (1) Information and referral services; (2) independent living skills training; (3) peer counseling, including cross-disability peer counseling; (4) and individual and systems advocacy. WIOA added additional “transition and diversion” core services comprised of three components. It requires CILs to:”.

Dated: February 24, 2017.
Daniel P. Berger,
Acting Administrator and Assistant Secretary for Aging.

[FR Doc. 2017-04169 Filed 3-3-17; 8:45 am]

BILLING CODE 4154-01-P